DEPARTMENT OF DEFENSE

Department of the Army

Notice of Availability (NOA) of the Final Environmental Impact Statement (EIS) for Military Training Activities at Mãkua Military Reservation (MMR), Hawaii

AGENCY: Department of the Army, DoD.

ACTION: Notice of Availability (NOA).

SUMMARY: The Army proposes to recommence conducting live-fire military training exercises at MMR, Oahu, Hawaii, for units assigned to the 25th Infantry Division (25th ID) and for other military components (Marine Corps, Army Reserves, and the Hawaii Army National Guard). Conducting live-fire exercises at the company level and below is critical to maintaining the readiness of all military units assigned or stationed in Hawaii. Training at the company level is particularly important because it is one of the key building blocks upon which the Army's progressive training doctrine depends. The Army has prepared the Final EIS pursuant to section 102(2)(c) of the National Environmental Policy Act of 1969 (NEPA), the Council on Environmental Quality regulations (40 CFR parts 1500-1508) and Environmental Analysis of Army Actions (32 CFR part 651).

DATES: The waiting period for the Final EIS will end 30 days after publication of the NOA in the Federal Register by the U.S. Environmental Protection Agency.

ADDRESSES: To obtain a copy of the Final EIS contact: U.S. Army Garrison, Hawaii, Attention: Public Affairs Office, 742 Santos Dumont, WAAF, Schofield Barracks, HI 96857.

FOR FURTHER INFORMATION CONTACT: U.S. Army Garrison, Hawaii, by phone at (808) 656-3152 or by facsimile at (808) 656-3162 during normal business hours Monday through Friday 9 a.m. to 5 p.m. h.s.t.

SUPPLEMENTARY INFORMATION: The EIS analyzes four alternatives to accomplish the proposed training in the State of Hawaii: MMR Alternative 1 (Reduced Capacity Use with Some Weapons Restrictions), MMR Alternative 2 (Full Capacity Use with Some Weapons Restrictions), MMR Alternative 3 (Full Capacity Use with Fewer Weapons Restrictions), and Pohakuloa Training Area (PTA) Alternative 4 (Full Capacity Use with Fewer Weapons Restrictions). Alternative 3 is the Army's Preferred Alternative. A No Action Alternative, under which nonlive-fire military training would be conducted at MMR, was also evaluated.

For all MMR alternatives (with the exception of No Action), MMRs range would be used for 242 training days per year. MMR Alternative 1 (Reduced Capacity Use) involves conducting up to 19 company-level Combined-Arms Live-Fire Exercises (CALFEXs) per year and 100 convoy live-fire exercises per year. MMR Alternatives 2 and 3 (Full Capacity Use) involve conducting up to 50 company-level CALFEXs per year and 200 convoy live-fire exercises per year. Weapon systems used for all live-fire training alternatives would be similar to those used during past live-fire training events at MMR. In addition to the current weapons systems, MMR Alternative 2 incorporates the use of small arms tracer ammunition. MMR Alternative 3 (Preferred Alternative) adds the following items: Tracer ammunition; inert, tube-launched, optically-tracked, wire-guided (TOW) 2 missiles; 2.75-inch rockets; and illumination munitions. Many of these munitions, however, will only be used when consistent with the Endangered Species Act Biological Opinion established for training at MMR. PTA Alternative 4 would encompass training similar to that in Alternative 3.

Some of the major potential impacts discussed in the Final EIS are associated with soil; surface water and groundwater quality; air quality; cultural sites; natural resources; endangered and threatened species; noise; recreational resources; wildfires; and the safety and transport of munitions through the Waianae community.

The Army has recommended several mitigation measures that would reduce the overall impacts associated with the Proposed Action. The final mitigation measures that the Army adopts will be published as part of the Record of Decision. In addition, for alternatives concerning MMR, the Army would phase in certain training activities and ammunition types as steps are taken to recover endangered species.

Copies of the Final EIS are available at the following libraries on the islands of Oahu and Hawaii: Hawaii State Library, 478 South King Street, Honolulu; Wahiawa Public Library, 820 California Avenue, Wahiawa; Waianae Public Library, 85-625 Farrington Highway, Waianae; Pearl City Public Library, 138 Waimano Home Road, Pearl City; Hilo Public Library, 300 Waianuenue Avenue, Hilo; Kailua-Kona Public Library, 75-138 Hualalai Road, Kailua-Kona; and the Thelma Parker Memorial Public and School Library, 67-1209 Mamalahoa Hwy., Kamuela.

An electronic version of the Final EIS is available for download at the following Web site: http://www.garrison.hawaii.army.mil/makuaeis.

Dated: May 29, 2009.
Addison D. Davis IV,
Deputy Assistant Secretary of the Army, Environment, Safety and Occupational Health.

[FR Doc. E9-13125 Filed 6-5-09; 8:45 am]

BILLING CODE 3710-08-M